SURFACE TRANSPORTATION BOARD

[Docket No. AB 1259X]

Chesapeake and Indiana Railroad Company—Discontinuance of Service Exemption—in Starke County, Indiana

Chesapeake and Indiana Railroad Company, Inc. (CKIN), a Class III rail carrier, has filed a verified notice of exemption under 49 CFR. 1152 subpart F—Exempt Abandonments and Discontinuances of Service to discontinue service over an approximately 5.45-mile line of railroad extending between milepost CI 212.55, at or near North Judson, Ind., and milepost CI 218.0, at or near English Lake, Ind., in Starke County, Ind. (the Line). The Line, which traverses United States Postal Service Zip Code 46366, is owned by the Town of North Judson, Ind. (Town), which acquired it through an offer of financial assistance. CSX Transp., Inc.—Aban. Exemption—in LaPorte, Porter, & Starke Ctys., Ind., AB 55 (Sub-No. 643X) (STB served May 14, 2004).¹

¹ According to CKIN, the Town will continue to own the Line, which will host excursion passenger services operated by the Hoosier Valley Railroad Museum. CKIN also states that it is willing to consider providing freight service over the Line as a “private carrier” pursuant to contracts with individual shippers should a demand arise for service that is economical.

CKIN has certified that: (1) No local traffic has moved over the Line for at least two years; (2) there is no overhead traffic on the Line; (3) no formal complaint filed by a user of a rail service on the Line (or by a state or local government entity acting on behalf of such user) regarding cessation of service over the Line is either pending with the Surface Transportation Board (Board) or with any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on December 28, 2017, unless stayed pending reconsideration. Petitions to stay that do not involve environmental issues and formal expressions of intent to file an OFA to subsidize continued rail service under 49 CFR 1152.27(c)(2) ² must be filed by December 8, 2017.³ Petitions for reconsideration must be filed by December 18, 2017, with the Surface Transportation Board, 395 E Street SW., Washington, DC 20423-0001.

² Each OFA must be accompanied by the filing fee, which currently is set at $1,800. See Regulations Governing Fees for Servs. Performed in Connection with Licensing & Related Servs.—2017 Update, EP 542 (Sub-No. 25), slip op. App. C at 20 (STB served July 28, 2017).

³ Because this is a discontinuance proceeding and not an abandonment, trail use/rail banking and public use conditions are not appropriate. Because there will be an environmental review during abandonment, this discontinuance does not require environmental review.

A copy of any petition filed with Board should be sent to CKIN's representative, John D. Heffner, Strasburger & Price, LLP, 1025 Connecticut Avenue NW., Suite 717, Washington, DC 20036.

If the verified notice contains false or misleading information, the exemption is void ab initio.

Board decisions and notices are available on our Web site at “WWW.STB.GOV.”

Decided: November 21, 2017.
By the Board, Scott M. Zimmerman, Acting Director, Office of Proceedings.
Jeffrey Herzig,
Clearance Clerk.

[FR Doc. 2017-25531 Filed 11-27-17; 8:45 am]

BILLING CODE 4915-01-P